DEPARTMENT OF THE INTERIOR

Fish and Wildlife Service

Conference of the Parties to the Convention on International Trade in Endangered Species of Wild Fauna and Flora (CITES); Amendments to Appendices I and II Adopted by the Conference of the Parties to CITES at Its Fourteenth Regular Meeting (CoP14)

AGENCY: Fish and Wildlife Service, Interior.

ACTION: Notice; request for comments.

SUMMARY: This notice announces the amendments to Appendices I and II adopted by the Conference of the Parties (CoP) to the Convention on International Trade in Endangered Species of Wild Fauna and Flora (CITES) at its fourteenth regular meeting (CoP14). The meeting was held in The Hague, The Netherlands, June 3-15, 2007. In this notice we list those amendments that were adopted by the Parties at the meeting. We also invite public input on whether the United States should take a reservation on the amendments (with the exception of species deleted from the Appendices) that were adopted at the meeting. To date, the United States has entered no reservations to any CITES listing. The amendments to CITES Appendices I and II described in this notice enter into effect on September 13, 2007.

DATES: In determining whether the United States should take a reservation on any of the amendments (with the exception of species deleted from the Appendices) to the CITES Appendices adopted at CoP14, we will consider written information and comments submitted by September 12, 2007.

ADDRESSES: Comments: Submit your comments concerning whether the United States should take a reservation on the amendments to the CITES Appendices (with the exception of species deleted from the Appendices) adopted at CoP14 by any one of the following methods:

• By mail or hand-delivery to Division of Scientific Authority, U.S. Fish and Wildlife Service, 4401 North Fairfax Drive, Room 750, Arlington, VA 22203;

• By e-mail to scientificauthority@fws.gov; or

• By fax to 703-358-2276.

Comments and materials we receive will be available for public inspection, from 8 a.m. to 4 p.m., Monday through Friday, at the street address given above.

Available Information: You may obtain information concerning the resolutions and decisions adopted at CoP14, including the full text of the CITES resolutions discussed in this notice:

• On the official Web site of the CITES Secretariat at http://www.cites.org (click on Conference of the Parties);

• By mailing a request to Division of Management Authority, U.S. Fish and Wildlife Service, 4401 North Fairfax Drive, Room 700, Arlington, VA 22203;

• By e-mailing a request to cop14@fws.gov; or

• By faxing a request to 703-358-2095.

FOR FURTHER INFORMATION CONTACT: For information pertaining to the discussions of proposed resolutions, decisions, and agenda items at CoP14 contact: Robert R. Gabel, Chief, Division of Management Authority (see ADDRESSES, above). For more information pertaining to the discussions of proposed amendments to the Appendices considered at CoP14, contact: Acting Chief, Division of Scientific Authority (see ADDRESSES, above).

SUPPLEMENTARY INFORMATION:

Background

The Convention on International Trade in Endangered Species of Wild Fauna and Flora (CITES or the Convention) is an international treaty designed to control and regulate international trade in certain animal and plant species that are now or potentially may become threatened with extinction due to trade. These species are listed in the Appendices to CITES, which are available on the CITES Secretariat's Web site (http://www.cites.org/eng/app/index.shtml). Currently, 172 countries, including the United States, are Parties to CITES. The Convention calls for regular meetings of the Conference of the Parties (CoP) to review issues pertaining to implementation, make provisions enabling the CITES Secretariat in Switzerland to carry out its functions, consider amendments to the list of species in Appendices I and II, consider reports presented by the Secretariat, and to make recommendations to improve the effectiveness of CITES. Any country that is a Party to CITES may propose and vote on amendments to Appendices I and II (species proposals), draft resolutions and decisions, and agenda items submitted for consideration by the Conference of the Parties. Accredited nongovernmental organizations (NGOs) may participate in the meeting as approved observers and may speak during sessions when recognized by the meeting Chairperson, but they may not vote or submit proposals.

In this notice we announce the amendments to Appendices I and II adopted by the Parties at CoP14, held in The Hague, The Netherlands, June 3-15, 2007, and also invite public input on whether the United States should take a reservation on any of the amendments to the Appendices (with the exception of species deleted from the Appendices) adopted by the Parties at CoP14.

This is our fifth notice in a series of Federal Register notices relating to CoP14. We published our first CoP14-related Federal Register notice on January 20, 2006 (71 FR 3319), to request information and recommendations on species proposals, draft resolutions and decisions, and agenda items for the United States to consider submitting for consideration at CoP14. We published our second Federal Register notice on November 7, 2006 (71 FR 65126), to request public comments and information on species proposals, draft resolutions and decisions, and agenda items that the United States was considering submitting for consideration at CoP14. On December 11, 2006, we held a public meeting that was announced in our second Federal Register notice; at that meeting, we discussed the issues contained in our November 7, 2006, Federal Register notice and on our website posting on the same topic. In our third Federal Register notice, published on February 21, 2007 (72 FR 7904), we announced the provisional agenda for CoP14, solicited public comments on items listed in the provisional agenda, and announced a second public meeting to discuss the agenda items. Our second public meeting was held on April 9, 2007. In our fourth CoP14-related Federal Register notice published June 1, 2007 (72 FR 30606), we announced the tentative U.S. negotiating positions on species proposals, draft resolutions and decisions, and agenda items submitted by other countries and the CITES Secretariat for consideration at CoP14. We also announced that we would publish a notice after the conclusion of CoP14 inviting public input on whether the United States should take a reservation on any of the amendments to the CITES Appendices adopted at CoP14.

You may obtain information on the above Federal Register notices from the following sources. For information on draft resolutions and decisions, and agenda items, contact the Division of Management Authority (see ADDRESSES, above); for information on species proposals, contact the Division of Scientific Authority (see ADDRESSES, above). Our regulations governing this public process are found in 50 CFR 23.31-23.39.

Amendments to the Appendices

Listed below are the amendments to CITES Appendices I and II adopted at CoP14. These amendments include the inclusion of species in Appendix I or Appendix II; the transfer of species from one Appendix to another; the deletion of species from Appendix I or II; and amendment of the annotations of certain CITES-listed species.

Table 1.—Amendments to CITES Appendix I and Appendix II Adopted at the CoP14
Proposal | Description of proposal | Submitted by | Comments
1 | Transfer of Nycticebus species (slow lorises) from Appendix II to Appendix I | Cambodia 3 |
3 | Transfer the Ugandan population of leopard (Panthera pardus) from Appendix I to Appendix II with an annotation that trade is to be allowed for the exclusive purpose of sport hunting for trophies and skins for personal use, to be exported as personal effects; and with an annual export quota of 50 leopards for the whole country | Uganda | At CoP14, Uganda revised the proposal to retain their leopard population in Appendix I with an annual export quota of 28 leopards as sport-hunted trophies.
Inf. 61 | Amendment of the listing annotation for African elephant (Loxodonta africana). The three African elephant proposals (4, 5, and 6) were withdrawn at the CoP, and replaced by a new proposed amendment (CoP14 Inf. 61) that would annotate the listings of the populations of African elephant in Appendix II to include trade in hunting trophies for non-commercial purposes; trade in live animals to appropriate and acceptable destinations for Zimbabwe and Botswana, and for in situ conservation programs for Namibia and South Africa; trade in hides; trade in hair; trade in leather goods for commercial and non-commercial purposes for Botswana, Namibia, and South Africa and for non-commercial purposes for Zimbabwe; trade in marked and certified ekipas (tourist souvenirs) for non-commercial purposes for Namibia and ivory carvings for non-commercial purposes for Zimbabwe; and trade in registered raw ivory for Botswana, Namibia, South Africa, and Zimbabwe from existing stockpiles registered by January 31, 2007, subject to certain conditions | Chad and Zambia, on behalf of Africa. | The new proposal (CoP14 Inf. 61) was developed and adopted by consensus on the agreement that no further proposals to allow trade in elephant ivory from these populations may be submitted to the CoP until 9 years following the sale of the approved ivory stocks, in accordance with the provisions set forth in Inf. 61. The Parties also decided that the African elephant range States shall develop an overall African elephant action plan to improve elephant management, and that the CITES Secretariat shall establish an African elephant fund, to be administered by the CITES Standing Committee, that will be applied to implement the action plan. Import of ekipas and ivory carvings into the United States is prohibited.
8 | Amendment of the annotation of the vicuña (Vicugna vicugna) population of Bolivia for the exclusive purpose of allowing international trade in wool sheared from live vicuñas, and in cloth and items made thereof, including luxury handicrafts and knitted articles | Bolivia | The proposal amends the annotation to include the entire Bolivian vicuña population for wool and products; the rest of the annotation remains unchanged.
10 | Inclusion of Cuvier's gazelle (Gazella cuvieri) in Appendix I | Algeria | Since 1976, the species had been included in Appendix III at the request of Tunisia.
12 | Inclusion of slender-horned gazelle (Gazella leptoceros) in Appendix I | Algeria | Since 1976, the species had been included in Appendix III at the request of Tunisia.
13 | Transfer of the Brazilian population of black caiman (Melanosuchus niger) from Appendix I to Appendix II | Brazil | This species is currently listed as endangered under the U.S. Endangered Species Act; therefore, the import of specimens into the United States for commercial purposes is still prohibited.
14 | Transfer Guatemalan beaded lizard (Heloderma horridum charlesbogerti) from Appendix II to Appendix I | Guatemala |
17 | Inclusion of the Family Pristidae (7 species of sawfish) in Appendix I | Kenya, Nicaragua and the United States of America | The proposal was amended to include the species Pristis microdon in Appendix II with the following annotation: For the exclusive purpose of allowing international trade in live animals to appropriate and acceptable aquaria for primarily conservation purposes. All other species were included in Appendix I.
18 | Inclusion of European eel (Anguilla anguilla) in Appendix II | Germany, on behalf of the European Community Member States |
22 | Deletion of Arizona agave (Agave arizonica) from Appendix I | United States | Scientific research has determined that Arizona agave is a randomly occurring first-generation hybrid and not a species.
23 | Transfer of Dehesa bear grass (Nolina interrata) from Appendix I to Appendix II | United States | Dehesa bear grass is listed as endangered under the California Endangered Species Act; therefore, the collection and sale of wild-collected specimens is prohibited under State law.
24 | Deletion of leaf-bearing cacti in the genera Pereskia and Quiabentia from Appendix II | Argentina |
25 | Deletion of leaf-bearing cacti in the genus Pereskiopsis from Appendix II | Mexico |
27 | Amendment of the annotations to Adonis vernalis, Guaiacum species, Hydrastis canadensis, Nardostachys grandiflora, Panax ginseng, Panax quinquefolius, Picrorhiza kurrooa, Podophyllum hexandrum, Pterocarpus santalinus, Rauvolfia serpentina, Taxus chinensis, T. fuana, T. cuspidata, T. sumatrana, and T. wallichiana, Orchidaceae species in Appendix II, and all Appendix-II and -III taxa annotated with annotation #1 | Switzerland as the Depositary Government, at the request of the Plants Committee | The proposal was produced by the Medicinal Plant Annotations Working Group in consultation with the CITES Plants Committee, which was directed by the Parties to assess the effectiveness of and streamline the annotations for CITES-listed medicinal plants.
28 | Deletion of Oconee bells (Shortia galacifolia) from Appendix II | United States |
30 | Inclusion of pernambuco (Caesalpinia echinata) in Appendix II, including all parts and derivatives | Brazil | The proposed annotation was amended to exclude finished bows and buttons from CITES controls. The adopted annotation states: “designates logs, sawn wood, veneer sheets, including wood articles used for the fabrication of bows for stringed musical instruments.”
35 | Amendment of the annotation to exempt certain artificially propagated hybrids of Orchidaceae (interspecific and intergeneric hybrids of Cymbidium, Dendrobium, Phalaenopsis, and Vanda) included in Appendix II | Switzerland as the Depositary Government, at the request of the Plants Committee | This proposal will replace confusing language in the existing taxon-specific orchid hybrid exemptions (referred to as footnote 8) with language proposed and agreed upon by consensus of the Plants Committee.
37 | Deletion of the current annotation for Taxus chinensis, T. fuana, andT. sumatrana, and a new annotation for artificially propagated hybrids and cultivars of T. cuspidata in pots or other small containers to be exempted from CITES controls | Switzerland as the Depositary Government, at the request of the Standing Committee | The proposed annotation was amended to exempt from CITES controls artificially propagated hybrids and cultivars of T. cuspidata live in pots.

Reservations

In addition to announcing the amendments to CITES Appendices I and II that were adopted at CoP14, we invite public input on whether the United States should take any reservations on the amendments to the CITES Appendices (with the exception of species deleted from the Appendices) that were adopted at the meeting. CITES provides a period of 90 days from the close of a meeting of the CoP for any Party to enter a reservation for a particular species listed in Appendix I or II. Countries that choose not to recognize a listing and take a reservation may continue trading in the species without CITES documents with other Parties that have taken the same reservation or with non-Parties, provided such shipments do not transit a Party country. However, trade with Parties that have not taken the same reservation requires CITES documents. While the reservation is in effect the Party is formally treated as a non-Party with respect to trade in the reserved species. A Party that has entered a reservation may withdraw it at any time.

CITES Resolution Conf. 4.25 recommends that, when a species is newly listed in Appendix I or is transferred from Appendix II to Appendix I, Parties that take a reservation for that species should treat the species as if it were listed in Appendix II, rather than not listed, when trading with other reserving Parties or non-Parties. Further, CITES Resolution Conf. 9.7 (Rev. CoP13) states that a shipment containing specimens of CITES species traded between non-Parties or reserving Parties or between a non-Party and a reserving Party must be accompanied by CITES documents if it transits a Party country before reaching its final destination. Therefore, if the United States entered a reservation to the listing of a species in Appendix I, we would require a CITES document that meets Appendix II permit criteria (i.e., legal acquisition and non-detriment finding) for international trade in specimens of that species with a non-Party or a Party that has taken the same reservation.

The United States has never entered a reservation on any CITES listing because a reservation would do very little to relieve importers in the United States from the need for foreign export permits. As discussed in the Federal Register notice of November 17, 1987 (52 FR 43924), the Lacey Act Amendments of 1981 (16 U.S.C. 3371 et seq.) make it a Federal offense to import into the United States any “fish or wildlife” taken, possessed, transported, or sold in violation of foreign laws. If a foreign nation has enacted CITES, and has not taken a reservation with regard to the particular species, part, or derivative, the United States would continue to require CITES documents as a condition of import. Regarding CITES-listed plants, the Lacey Act does not provide the same protections for plants outside of the United States. However, a reservation by the United States also would provide exporters in this country with little relief from the need for U.S. export documents. Unless the receiving country had entered the same reservation or was a non-Party, U.S. exporters of CITES-listed plants and animals would continue to be required to obtain CITES-comparable documents because the Parties have agreed to trade with non-Parties and reserving Parties only if they issue permits and certificates that substantially conform with CITES requirements and contain the required information outlined in CITES Resolution Conf. 9.5 (Rev. CoP13). If the United States were to enter a reservation for a particular species, it may confuse importers and exporters because, as stated above, CITES permit requirements would still be imposed by other Parties. This could lead persons to inadvertently violate the laws of foreign countries that honor the listing.

Author

This notice was prepared by Pat Ford, Division of Scientific Authority, (see ADDRESSES, above).

Authority: This notice is issued under the authority of the U.S. Endangered Species Act of 1973, as amended (16 U.S.C. 1531 et seq.).

Dated: July 31, 2007.
H. Dale Hall,
Director.

[FR Doc. E7-15828 Filed 8-10-07; 8:45 am]

BILLING CODE 4310-55-P